Title 3—

The President

Proclamation 9849 of March 13, 2019

National Agriculture Day, 2019

By the President of the United States of America

A Proclamation

On National Agriculture Day, we acknowledge the immeasurable value farmers, ranchers, growers, producers, and foresters contribute to our Nation. America's agriculture families and communities lead the world in producing food, feed, fuel, and fiber. Today, we pay tribute to the men and women who expand opportunities for prosperity, economic development, and food security by cultivating the land across our country.

American agriculture strengthens our economy. Valued at more than $141 billion, our country's agriculture exports are critical to our Nation's job market, with every $1 billion in exports supporting approximately 8,400 American jobs. Counting for approximately 5.5 percent of our gross domestic product, our agriculture, food, and related industries are vital to our Nation's global economic success. Accordingly, my Administration is working to modernize and improve trade agreements to remove barriers and open foreign markets to goods grown and produced here in the United States. Last year, I made good on my promise to renegotiate the outdated and unbalanced North American Free Trade Agreement (NAFTA) with the signing of the United States-Mexico-Canada Agreement (USMCA). Once approved by the Congress, the USMCA will help farmers, especially dairy producers, have improved access to markets for their products by lifting unfair restrictions by Canada on American dairy, wheat, and wine producers.

We must continue to streamline our regulatory environment so that agricultural innovation can flourish and help our farmers, ranchers, and foresters meet the world's growing demand for food. My Administration, therefore, is streamlining regulatory policy for biotechnology, removing the red tape that is slowing down the approval of powerful new agriculture products. We are also committed to training and supporting the next generation of farmers and agriculture professionals through technical assistance programs so that they have the knowhow to harness the full potential of our Nation's abundant technological and national resources.

To help ensure the continued success, stability, and prosperity of our Nation's farmers, ranchers, and producers, I signed into law the Agriculture Improvement Act of 2018. This legislation bolsters farm safety-net programs, supports expanded markets for America's agricultural production, promotes active management of natural resources, and maintains strong rural development and research initiatives. In addition, a key provision in the law requires the Federal Communications Commission to work with the Department of Agriculture to boost broadband deployment and adoption in rural areas. This initiative will provide more farmers, ranchers, and rural communities access to next-generation digital technologies that enhance profitability and sustainability, greatly improving quality of life for all Americans.

The American farmer embodies the timeless virtues of our Nation: hard work, self-reliance, and dedication to family. On this National Agriculture Day, we express our gratitude to those who feed and clothe us, fuel our economy, and inspire us with their determination and perseverance.

NOW, THEREFORE, I, DONALD J. TRUMP, President of the United States of America, by virtue of the authority vested in me by the Constitution and the laws of the United States, do hereby proclaim March 14, 2019, as National Agriculture Day. I encourage all Americans to observe this day by recognizing the preeminent role that agriculture plays in our daily lives, acknowledging agriculture's continuing importance to rural America and our country's economy, and expressing our deep appreciation of farmers, growers, ranchers, producers, national forest system stewards, private agricultural stewards, and those who work in the agriculture sector across the Nation.

IN WITNESS WHEREOF, I have hereunto set my hand this thirteenth day of March, in the year of our Lord two thousand nineteen, and of the Independence of the United States of America the two hundred and forty-third.

[FR Doc. 2019-05277

Filed 3-18-19; 8:45 am]

Billing code 3295-F9-P